DEPARTMENT OF JUSTICE

Immigration and Naturalization Service

[INS No. 2247-02]

Application for Naturalization, Form N-400: Termination of Acceptance of Editions Issued Prior to May 31, 2001

AGENCY: Immigration and Naturalization Service, Justice.

ACTION: Notice.

SUMMARY: This notice confirms only editions dated May 31, 2001, or later, of the Form N-400, Application for Naturalization, as acceptable for filing by persons applying for United States citizenship. These revised editions include recent legislative changes, clarify the information required from applicants, eliminate obsolete questions, and update the data collection process. This notice advises the public that all Forms N-400 that are mailed, postmarked or otherwise filed on or after March 31, 2003 must bear the edition date of May 31, 2001, or later.

DATES: This notice is effective March 31, 2003.

FOR FURTHER INFORMATION CONTACT: Gerard Casale, Business Process and Reengineering Division, Immigration and Naturalization Service, 801 I Street, NW., Washington, DC 20536, telephone (202) 514-0788.

SUPPLEMENTARY INFORMATION:

Background

In a Federal Register notice dated November 16, 2001, at 66 FR 57737-57739, the Department of Justice, Immigration and Naturalization Service (Service) announced the establishment of the revised Form N-400, bearing the edition date of May 31, 2001, as the only edition acceptable for applications for United States citizenship. That notice stated that earlier editions of Form N-400 would not be acceptable for filing after December 31, 2001.

Subsequent to publication of the November 16, 2001, notice the Service continued to allow additional time for transition to the processing of the current Form N-400, during which the previous edition has been accepted for processing. However, it is necessary to complete the conversion to an updated naturalization application format that reflects all current benefits and requirements.

Accordingly, as of March 31, 2003, only the May 31, 2001, or subsequent editions of Form N-400 will be valid for filing an application for naturalization.

To prevent applicants from mistakenly submitting obsolete editions after the termination date of March 31, 2003, offices involved in the distribution of naturalization applications should only provide editions of Form N-400 having an edition date of May 31, 2001, or later.

What Happens After the “Sunset Date” for Accepting the Previous Edition of Form N-400?

Beginning March 31, 2003, only the May 31, 2001, or later editions of Form N-400 will be valid for filing an application for naturalization.

Service Centers will no longer accept earlier editions of the form for filing. Any obsolete editions of the Form N-400 application that the Service Centers may receive on or after March 31, 2003 will be rejected and returned to the applicant with instructions to submit a current Form N-400.

Will the Service Continue to Process the Previous Edition Form N-400 Applications that were Filed Prior to March 31, 2003?

The previous edition of the naturalization applications, if it was properly filed at a Service Center before March 31, 2003 will be processed to completion. However, in cases where there is an eligibility issue that the previous edition does not cover, the Service may ask for additional information.

How Can Applicants Obtain the Current Edition of Form N-400?

Applicants can obtain copies of the current Form N-400 by calling the Service Forms Line at 1-800-870-3676. The current edition of Form N-400 also can be viewed, filled, and printed electronically from the Service's Web site at www.ins.usdoj.gov.

Michael J. Garcia,
Acting Commissioner, Immigration and Naturalization Service.

[FR Doc. 03-4863 Filed 2-26-03; 12:08 pm]

BILLING CODE 4410-10-U